COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Effective Date: 10/30/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 7/22/2016 (81 FR 47777-47778), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products:

NSN(s)—Product Name(s):

8415-00-NIB-1053—Jacket, Tanker, USMC, Pewter Gray, Size 38R

8415-00-NIB-1054—Jacket, Tanker, USMC, Pewter Gray, Size 38L

8415-00-NIB-1055—Jacket, Tanker, USMC, Pewter Gray, Size 38XL

8415-00-NIB-1056—Jacket, Tanker, USMC, Pewter Gray, Size 40S

8415-00-NIB-1057—Jacket, Tanker, USMC, Pewter Gray, Size 40R

8415-00-NIB-1058—Jacket, Tanker, USMC, Pewter Gray, Size 40L

8415-00-NIB-1059—Jacket, Tanker, USMC, Pewter Gray, Size 40XL

8415-00-NIB-1092—Jacket, Tanker, USMC, Pewter Gray, Size 42S

8415-00-NIB-1093—Jacket, Tanker, USMC, Pewter Gray, Size 42R

8415-00-NIB-1094—Jacket, Tanker, USMC, Pewter Gray, Size 42L

8415-00-NIB-1095—Jacket, Tanker, USMC, Pewter Gray, Size 42XL

8415-00-NIB-1096—Jacket, Tanker, USMC, Pewter Gray, Size 44S

8415-00-NIB-1097—Jacket, Tanker, USMC, Pewter Gray, Size 44R

8415-00-NIB-1098—Jacket, Tanker, USMC, Pewter Gray, Size 44L

8415-00-NIB-1099—Jacket, Tanker, USMC, Pewter Gray, Size 44XL

8415-00-NIB-1100—Jacket, Tanker, USMC, Pewter Gray, Size 46S

8415-00-NIB-1101—Jacket, Tanker, USMC, Pewter Gray, Size 46R

8415-00-NIB-1102—Jacket, Tanker, USMC, Pewter Gray, Size 46L

8415-00-NIB-1103—Jacket, Tanker, USMC, Pewter Gray, Size 46XL

8415-00-NIB-1104—Jacket, Tanker, USMC, Pewter Gray, Size 48R

8415-00-NIB-1105—Jacket, Tanker, USMC, Pewter Gray, Size 48L

8415-00-NIB-1106—Jacket, Tanker, USMC, Pewter Gray, Size 48XL

8415-00-NIB-1107—Jacket, Tanker, USMC, Pewter Gray, Size 50R

8415-00-NIB-1108—Jacket, Tanker, USMC, Pewter Gray, Size 50L

8415-00-NIB-1109—Jacket, Tanker, USMC, Pewter Gray, Size 50XL

8415-00-NIB-1110—Jacket, Tanker, USMC, Pewter Gray, Size 52R

8415-00-NIB-1111—Jacket, Tanker, USMC, Pewter Gray, Size 52L

8415-00-NIB-1112—Jacket, Tanker, USMC, Pewter Gray, Size 54R

8415-00-NIB-1113—Jacket, Tanker, USMC, Pewter Gray, Size 54L

Mandatory Source(s) of Supply: Lions Services, Inc., Charlotte, NC

Contracting Activity: Marine Corps Systems Command, Quantico, VA

NSN(s)—Product Name(s): 1005-01-511-2152—Sling, M-249 Small Arms

Mandatory Source(s) of Supply: UNKNOWN

Contracting Activity: Defense Logistics Agency Land and Maritime

NSN(s)—Product Name(s): 1095-00-223-7164—Scabbard, Bayonet-Knife

Mandatory Source(s) of Supply: UNKNOWN

Contracting Activity: W40M NORTHEREGION CONTRACT OFC

NSN(s)—Product Name(s): 1005-01-478-0848—Sling, Combat, Close Quarters

Mandatory Source(s) of Supply: Best Industries for the Blind Inc., Runnemede, NJ

Contracting Activity: W40M NORTHEREGION CONTRACT OFC

Barry S. Lineback,
Director, Business Operations.

[FR Doc. 2016-23642 Filed 9-29-16; 8:45 am]

BILLING CODE 6353-01-P